DEPARTMENT OF ENERGY

Federal Energy Regulatory Commission

[Project No. 13511-002]

Igiugig Village Council; Notice of Intent To File License Application, Filing of Draft Application, Request for Waivers of Integrated Licensing Process Regulations Necessary for Expedited Processing of a Hydrokinetic Pilot Project License Application, and Soliciting Comments

a. Type of Filing: Notice of Intent to File a License Application for an Original License for a Hydrokinetic Pilot Project.

b. Project No.: 13511-002.

c. Date Filed: April 1, 2015.

d. Submitted By: Igiugig Village Council (Igiugig).

e. Name of Project: Igiugig Hydrokinetic Project.

f. Location: On the Kvichak River in the Lake and Peninsula Borough, near the town of Igiugig, Alaska.

g. Filed Pursuant to: 18 CFR 5.3 of the Commission's regulations.

h. Applicant Contact: Nathan Johnson, Ocean Renewable Power Company, 66 Pearl Street, Suite 301, Portland, Maine 04101; (207) 772-7707.

i. FERC Contact: Dianne Rodman at (202) 502-6077 or email at dianne.rodman@ferc.gov.

j. Igiugig has filed with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-federal representative for section 106 consultation under the National Historic Preservation Act (NHPA) (collectively the pre-filing materials).

k. With this notice, we are soliciting comments on the pre-filing materials listed in paragraph j above, including the draft license application and monitoring plans. All comments should be sent to the address above in paragraph h and filed with the Commission. All comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426. Any individual or entity interested in submitting comments on the pre-filing materials must do so by May 23, 2015.

l. With this notice, we are approving Igiugig's request to be designated as the non-federal representative for section 7 of the ESA and its request to initiate consultation under section 106 of the NHPA; and recommending that it begin informal consultation with: (a) The U.S. Fish and Wildlife Service and the National Marine Fisheries Service as required by section 7 of ESA; and (b) the Alaska State Historic Preservation Officer, as required by section 106 of the NHPA and the implementing regulations of the Advisory Council on Historic Preservation at 36 CFR 800.2.

m. With this notice, we also are asking federal, state, local, and tribal agencies with jurisdiction and/or expertise with respect to environmental issues to cooperate with us in the preparation of the environmental document. Agencies who would like to request cooperating status should follow the instructions for filing comments described in paragraph “k” above.

n. This notice does not constitute the Commission's approval of Igiugig's request to use the Pilot Project Licensing Procedures. Upon its review of the project's overall characteristics relative to the pilot project criteria, the draft license application contents, and any comments filed, the Commission will determine whether there is adequate information to conclude the pre-filing process.

o. The proposed Igiugig Hydrokinetic Project would consist of: (1) An in-stream 20- kilowatt (kW), 64-foot-long, 11-foot-high, 43-foot-wide pontoon-mounted RivGen Power System Turbine Generator Unit (TGU) in Phase 1; (2) an additional in-stream 20-kW pontoon-mounted TGU in Phase 2; (3) two anchoring systems consisting of a 13,000-pound anchor, chain, shackles, and 150 feet of mooring; (4) a 375-foot-long, coated and weighted combined power, data, and environmental monitoring cable from the TGU for Phase 1; and a 675-foot-long cable from the TGU for Phase 2; (5) an existing 10-foot-long by 8-foot-wide shore station for housing project electronics and controls; and (6) appurtenant facilities. The project is estimated to have an annual generation of 409,504 kilowatt-hours per year.

p. A copy of the draft license application and all pre-filing materials are available for review at the Commission in the Public Reference Room or may be viewed on the Commission's Web site (http://www.ferc.gov), using the “eLibrary” link. Enter the docket number (P-13511), excluding the last three digits in the docket number field to access the document. For assistance, contact FERC Online Support at FERCONlineSupport@ferc.gov or toll free at 1-866-208-3676, or for TTY, (202) 502-8659.

q. Pre-filing process schedule. The pre-filing process will be conducted pursuant to the following tentative schedule. Revisions to the schedule below may be made based on staff's review of the draft application and any comments received.

Milestone | Date
Comments on pre-filing materials due | May 23, 2015.
Issuance of meeting notice (if needed) | June 7, 2015.
Public meeting/technical conference (if needed) | June 22, 2015.

r. Register online at http://www.ferc.gov/docs-filing/esubscription.asp to be notified via email of new filing and issuances related to this or other pending projects. For assistance, contact FERC Online Support.

Dated: April 23, 2015.
Kimberly D. Bose,
Secretary.

[FR Doc. 2015-10219 Filed 4-30-15; 8:45 am]

BILLING CODE 6717-01-P